DEPARTMENT OF THE INTERIOR

Bureau of Land Management

[MT-020-1310-DT 050E]

Notice of Availability of the Final Supplement to the Montana Statewide Oil and Gas Environmental Impact Statement and Proposed Amendment of the Powder River and Billings Resource Management Plans (RMPs)

AGENCY: Bureau of Land Management, Interior.

ACTION: Notice of Availability.

SUMMARY: By Order of the U.S. District Court for the District of Montana, dated April 5, 2005, and pursuant to the Federal Land Policy and Management Act of 1976 and the National Environmental Policy Act of 1969, the Bureau of Land Management (BLM) has prepared a Final Supplement to the Montana Statewide Oil and Gas Environmental Impact Statement and Proposed Amendment (Proposed SEIS/Amendment) of the Powder River and Billings Resource Management Plans (RMPs).

ADDRESSES: Copies of the Proposed SEIS/Amendment have been sent to affected federal, state, and local government agencies; to tribal governments; and to interested parties. Copies of the Proposed SEIS/Amendment are available for public inspection at the BLM Miles City Field Office, 111 Garryowen Road, Miles City, Montana; and at the BLM Montana State Office, 5001 Southgate Drive, Billings, Montana. You may also view the Proposed SEIS/Amendment on the Internet at http://www.blm.gov/eis/mt/milescity_seis/.

FOR FURTHER INFORMATION CONTACT: Mary Bloom, Project Manager, by telephone at (406) 233-2852; by mail at 111 Garryowen Road, Miles City, MT 59301; or by e-mail at Mary_Bloom@blm.gov.

SUPPLEMENTARY INFORMATION: The Powder River and Billings RMP areas comprise approximately 1.5 million acres of BLM-managed surface and 5 million acres of BLM-managed mineral estate. There are approximately 3.2 million acres of BLM-managed oil and gas. The Powder River RMP area includes Powder River and Treasure Counties, and portions of Big Horn, Carter, Custer, and Rosebud Counties. The Billings RMP area includes Carbon, Golden Valley, Musselshell, Stillwater, Sweet Grass, Wheatland, and Yellowstone Counties and the remaining portion of Big Horn County. The Proposed SEIS/Amendment supplements the 2003 Montana Statewide Final Oil and Gas Environmental Impact Statement and Proposed Amendment of the Powder River and Billings Resource Management Plans (Statewide Document).

The Statewide Document was approved on April 30, 2003. Several lawsuits were filed against the BLM's decisions. Two of the lawsuits resulted in an April 5, 2005, ruling by the U.S. District Court ordering the BLM to prepare the SEIS/Amendment to consider a phased development alternative for coal bed natural gas (CBNG) production in the Billings and Powder River RMP areas.

Topics addressed in the Proposed SEIS/Amendment include those provided or recommended by the U.S. District Court: Phased CBNG development, the inclusion of the proposed Tongue River Railroad in the cumulative impact analysis, and a discussion on how private water well mitigation agreements help alleviate the impacts of methane migration and groundwater drawdown. The Notice of Intent to plan for the Draft SEIS/Amendment was published in the Federal Register in Volume 70 FR Number 150, p. 45417, August 5, 2005.

The Draft SEIS/Amendment analyzed three new alternatives (F, G and H) to consider phased CBNG development. Under Alternative F, the BLM would limit the number of Federal applications for permit to drill (APD) approved each year cumulatively and in each fourth-order watershed. The BLM would also limit the percentage of disturbance within identified crucial wildlife habitat. Further, the BLM would place a limit on the volume of untreated water discharged to surface waters from Federal CBNG wells within each fourth-order watershed.

Under Alternative G, development of CBNG on Federal leases in the Billings and Powder River RMP areas would be done following the same management actions as described under Alternative F. However, while the BLM would limit the number of Federal APDs approved each year cumulatively, development would be limited to a low range of predicted wells based on the Statewide Document's Reasonably Foreseeable Development scenario.

Alternative H, the BLM's preferred alternative, contained three key components. First, a phased development approach would be implemented where a CBNG proposal would be reviewed against four filters or screens to determine if the proposal needed to be modified. Second, this alternative would include extensive requirements that an operator must meet when submitting a project Plan of Development (POD). Third, mitigation measures, and subsequent modifications to existing operations via adaptive management, would be considered and applied to each POD, as appropriate.

The 90-day public comment period on the Draft SEIS/Amendment ended May 2, 2007. During the comment period, the EPA notified the BLM of air analysis deficiencies in the Draft SEIS/Amendment. As a result, the BLM prepared a draft supplement to the Draft SEIS/Amendment to demonstrate that predicted visibility effects in Class I and II areas could be mitigated. The 90-day public comment period for the additional air quality analyses ended March 13, 2008.

Public comments on the Draft SEIS/Amendment and supplemental air analyses were considered in the preparation of the Proposed SEIS/Amendment. Public comments resulted in changes to the Air Quality and Wildlife screens in the Draft SEIS/Amendment (Alternative H). The Air Quality Screen was modified to allow for better monitoring of air quality. The BLM also received comments on climate change, which have been addressed in the Proposed SEIS/Amendment. Consideration of climate change analysis did not result in any additional changes to the Air Quality Screen. The Wildlife Screen was modified to include population threshold levels for pronghorn, mule deer, and sage-grouse habitat. If the BLM management of habitat results in declines in the populations of these species, based on the established threshold levels, the BLM would implement mitigation measures to minimize impacts to wildlife habitat and maintain wildlife populations. The Wildlife Screen was also modified to include provisions that would allow for the implementation of protective measures for other species' habitats.

The Assistant Secretary, Land and Minerals Management, in the Department of the Interior is the responsible official for this proposed plan amendment on public lands. The Federal Land Policy and Management Act and its implementing regulations provide land use planning authority to the Secretary, as delegated to the Assistant Secretary. Because the Record of Decision will be signed by the Assistant Secretary, Land and Minerals Management, it will be the final decision for the Department of the Interior. This decision is not subject to administrative review (protest) under the BLM or the Department of the Interior regulations (43 CFR 1610.5-2).

The BLM has initiated activities to coordinate and consult with the Montana Governor. Prior to the issuance of the Record of Decision and approval of the proposed land use plan amendment, the Governor will be given the opportunity to identify any inconsistencies between the Proposed SEIS/Amendment and state or local plans and to provide recommendations in writing during the 60-day consistency review period required by the BLM land use planning regulations (43 CFR 1610.3-2).

Gene R. Terland,
State Director.

[FR Doc. E8-26473 Filed 11-6-08; 8:45 am]

BILLING CODE 4310-$$-P